DEPARTMENT OF HOMELAND SECURITY

Coast Guard

[USCG-2008-0188]

National Offshore Safety Advisory Committee

AGENCY: Coast Guard, DHS.

ACTION: Notice of meeting.

SUMMARY: The National Offshore Safety Advisory Committee (NOSAC) will meet to discuss various issues relating to offshore safety and security. The meeting will be open to the public.

DATES: NOSAC will meet on Friday, April 18, 2008, from 9 a.m. to 3 p.m. The meeting may close early if all business is finished. Written material and requests to make oral presentations should reach the Coast Guard on or before April 4, 2008. Requests to have a copy of your material distributed to each member of the committee should reach the Coast Guard on or before April 4, 2008.

ADDRESSES: NOSAC will meet in room 2415 of the Coast Guard Headquarters Bldg., 2100 Second Street, SW., Washington, DC. Send written material and requests to make oral presentations to Commander J.M. Cushing, Commandant (CG-5222), U.S. Coast Guard Headquarters, 2100 Second Street SW., Washington, DC 20593-0001. This notice is available on our online docket, USCG-2008-0188, at http://www.regulations.gov.

FOR FURTHER INFORMATION CONTACT: Commander J.M. Cushing, Executive Director of NOSAC, or Mr. Jim Magill, Assistant Executive Director, telephone 202-372-1414, fax 202-372-1926.

SUPPLEMENTARY INFORMATION: Notice of the meeting is given under the Federal Advisory Committee Act, 5 U.S.C. App. (Pub. L. 92-463).

Agenda of Meeting

The agenda for the April 18, 2008 committee meeting includes the following:

(1) Report on issues concerning the International Maritime Organization (IMO) and the International Organization for Standardization.

(2) Revision of 46 CFR, Subchapter V, Subpart B—Commercial Diving Operations.

(3) MARPOL Annex II Implementation for Existing Offshore Supply Vessels (OSVs).

(4) Revision of IMO Mobile Offshore Drilling Units (MODU) Code.

(5) Sandblasting standard for OCS facilities.

(6) Evacuation of Injured Workers from remote Drilling and Production Facilities.

(7) Transportation Worker Identification Credential (TWIC) impact on offshore facilities.

(8) Revision of 33 CFR, Subchapter N, Outer Continental Shelf Activities.

Procedural

The meeting is open to the public. Please note that the meeting may close early if all business is finished. At the Chair's discretion, members of the public may make oral presentations during the meeting. If you would like to make an oral presentation at the meeting, please notify the Executive Director no later than April 4, 2008. Written material for distribution at the meeting should reach the Coast Guard no later than April 4, 2008. If you would like a copy of your material distributed to each member of the committee in advance of the meeting, please submit 25 copies to the Executive Director no later than April 4, 2008.

Information on Services for Individuals With Disabilities

For information on facilities or services for individuals with disabilities or to request special assistance at the meeting, contact the Executive Director as soon as possible.

Dated: March 12, 2008.
J.G. Lantz,
Director of Commercial Regulations and Standards.

[FR Doc. E8-5563 Filed 3-18-08; 8:45 am]

BILLING CODE 4910-15-P